DEPARTMENT OF DEFENSE

Department of the Army

Intent To Grant an Exclusive Field of Use License of U.S. Government-Owned Patents

AGENCY: Department of the Army, DoD.

ACTION: Notice.

SUMMARY: In accordance with 35 U.S.C. 209(e), and 37 CFR 404.7 (a)(1)(i) and 37 CFR 404.7 (b)(1)(i), announcement is made of the intent to grant a field of use exclusive, revocable license for the field of vaccination of ungulates to U.S. Patent No. 7,235,644 issued on June 26, 2007, U.S. Patent No. 7,025,963 issued on April 11, 2006, and U.S. Patent No. 7,018,636 issued on March 28, 2006, and related foreign patents and patent applications deriving from PCT/US95/04446, with all patents and patent applications entitled “Vaccine Against Gram-Negative Bacterial Infections,” to the University of Maryland, Baltimore, with its principal place of business at 620 West Lexington Street, 4th floor, Baltimore, Maryland 21201-1508.

ADDRESSES: Commander, U.S. Army Medical Research and Materiel Command, ATTN: Command Judge Advocate, MCMR-JA, 504 Scott Street, Fort Detrick, Frederick, MD 21702-5012.

FOR FURTHER INFORMATION CONTACT: For licensing issues, Dr. Paul Mele, Office of Research and Technology Applications (ORTA), (301) 619-6664. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2010-24592 Filed 9-29-10; 8:45 am]

BILLING CODE 3710-08-P